DEPARTMENT OF TRANSPORTATION

[Docket No. FHWA-2020-0007]

Federal Highway Administration

Tribal Technical Assistance Program

AGENCY: Federal Highway Administration (FHWA), Department of Transportation.

ACTION: Notice; request for comments.

SUMMARY: This notice requests comments on the future delivery models proposed for the Tribal Technical Assistance Program (TTAP).

DATES: Comments must be received on or before September 21, 2020.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE, W12-140, Washington, DC 20590.

• Hand Delivery: West Building Ground Floor, Room W12-140, 1200 New Jersey Ave. SE, Washington, DC 20590, between 9 a.m. and 5 p.m., Monday through Friday, except Federal holidays. The telephone number is (202) 366-9329.

• Instructions: You must include the agency name and docket number at the beginning of your comments. All comments received will be posted without change to http://www.regulations.gov including any personal information provided.

FOR FURTHER INFORMATION CONTACT: For questions about the TTAP, contact Victoria Peters, FHWA Center for Local Aid Support, (720) 963-3522, or by email at Victoria.Peters@dot.gov. For legal questions, please contact Vivian Philbin, FHWA Office of the Chief Counsel, (720) 963-3445, or by email at Vivian.Philbin@dot.gov. Business hours for FHWA are from 8:00 a.m. to 4:30 p.m., E.T., Monday through Friday, except Federal holidays.

SUPPLEMENTARY INFORMATION:

Electronic Access

You may retrieve a copy of the notice through the Federal eRulemaking portal at: http://www.regulations.gov. The website is available 24 hours a day. Electronic submission and retrieval help and guidelines are available under the help section of the website. An electronic copy of this document may also be downloaded from the Office of the Federal Register's home page at: http://www.archives.gov/federal_register and the Government Publishing Office's web page at: http://www.gpoaccess.gov.

Background

The legislative authority to deliver TTAP is contained in 23 U.S.C. 504(b). The Secretary may make grants and enter into cooperative agreements and contracts to provide education and training, technical assistance, and related support services described in 23 U.S.C. 504(b).

TTAP was added to the Local Technical Assistance Program in 1991, with the primary objective of building transportation professional capacity within the federally recognized Tribes to support the management of their transportation assets. The program started with four centers and expanded to seven centers by 1996. In 2018, in order to focus more program resources on core training and technical assistance, the program piloted a national delivery model for 2 years; this pilot concluded in December 2019.

Throughout the 2-year pilot, FHWA received feedback from the Tribes on the model and its performance. In response, FHWA held four consultation sessions in the summer of 2019 to solicit more direct feedback on the national model. Tribes provided feedback that they wanted more input in the development of future TTAP objectives and program delivery.

In acknowledgement of the feedback received and to accommodate more direct and more extensive Tribal involvement, FHWA conducted 13 additional consultation sessions, including at least one in each of the 12 Bureau of Indian Affairs (BIA) regions during late 2019 and early 2020. These facilitated consultation sessions focused on two questions: (1) Within the framework of the enabling legislation, what objectives did the Tribes want to see the TTAP accomplish; and (2) What is the best delivery model to achieve those objectives?

This notice summarizes the feedback received from the 13 consultation sessions and proposes 2 delivery models for the advancement of TTAP. FHWA is interested in receiving further input on the proposed models.

While the face-to-face training of TTAP is currently suspended as potential delivery models for TTAP are being assessed, online training and technical assistance are still available during the temporary suspension of face-to-face trainings.

Summary of the National Pilot

In 2018-2019, FHWA piloted a national delivery model for TTAP to assess whether reshaping the program could feasibly increase the amount of transportation training and associated technical assistance available to Tribal transportation professionals and provide data to serve as a baseline against which future improvements could be measured. Administered from a central location with the virtual delivery of face-to-face training, the pilot tested a means to provide broader national coverage. The goal was to deliver training in core transportation focus areas, centralize subject matter expertise, ensure consistency in training delivery, share best practices and innovation, enable technical assistance from subject matter experts (SMEs), test a Road Scholars certification program, and create program awareness with the Tribal transportation workforce. The pilot was funded at the same level as previous TTAP efforts. A brief summary of the pilot follows:

• Centralizing the administrative functions (e.g., developing training material; coordinating and scheduling training sessions and technical assistance; sharing best practices/innovation via a newsletter; and hosting a website that provided information on annual training schedules and locations, available resources, toolkits, fact sheets and regulatory links) in one center substantially reduced overhead, reduced redundancy, and increased the resources available for training and technical assistance.

• Over 60 core curriculum courses were developed in 5 core transportation areas and were offered in the following formats: online self-paced, online 4-week instructor-led, and face-to-face. The pilot also included a special emphasis area of motor vehicle injury prevention.

• The pilot provided in-depth training on topics and skills with the face-to-face training classes that were 3.5 hours or longer. These courses were offered primarily to Tribes, but others could attend on a space-available basis. During the pilot, these sessions averaged participation of 78 percent Tribal and 22 percent non-Tribal; this was comparable to the previous 5 years of the TTAP, which had average participation of 70 percent Tribal and 30 percent non-Tribal attendees.

• The face-to-face class sizes during the pilot ranged from 2 to 26 participants for an average of 5 registrations per class. Comparing the average number of face-to-face training session participants, the 5-year average of the former centers was almost double that of the pilot. However, the pilot metric does not include attendees participating in national and regional conference face-to-face training sessions as was previously included; it only includes attendees at the 3.5-hour training classes.

• The training was delivered by 10 SMEs in safety, planning & procurement, project delivery, maintenance & operations, and asset & data management. The SMEs were located across the country and worked remotely. All training was geographically dispersed across the country to provide equitable access to the full range of training opportunities for all the Tribes.

• The pilot delivered 4,754 hours of face-to-face training over a 21-month period. Converted to an annual number, this represents a 60 percent increase over the 5-year annual average for face-to-face training hours delivered in the previous 5 years of the TTAP. An additional 1,364 contact hours were earned by Tribal participants from the online learning delivered under the pilot.

• Upon request, the TTAP SMEs provided customized technical assistance to help build the technical knowledge and capabilities of Tribal workforces. Serving as technical mentors, SMEs provided guidance and resources beyond the classroom. Over the course of the pilot, the SMEs provided an average of 36 technical assistance hours per month to the Tribal workforce.

• The pilot included a Road Scholar Certification Program that offered the opportunity to become certified in several roadway and heavy equipment operation topics. The certification center was located in Oklahoma City, Oklahoma. Blending both online and in-person testing, all applicants were emailed a study packet to facilitate passing the online pre-examination before proceeding with the practical examination process (hands-on for several topics). Many applicants did not proceed after receiving the initial study packet. Nine applicants pretested in multiple topics, and two moved into the practical examination phase. To address concerns expressed regarding the difficulty of the certification exams, the program was also tested with 15 local public agency employees from the Oklahoma City area, ranging in skill level from newly employed with little to no experience to seasoned maintenance workers. The more experienced local workers advanced to practical testing.

• Centralizing the administrative function of the program lost the regional interface between the Tribes and TTAP. An important component of the TTAP's efficacy is the relationship between the TTAP staff and the Tribes. While centralizing the administrative function of the program reduced the cost of maintaining multiple physical centers and administrative staff, the program lost the existing interface between the Tribes and the TTAP. A centralized program resolved limitations with respect to subject matter expertise as well as the scope and amount of training provided under the prior TTAP model. However, the TTAP will need to reestablish the connection between the TTAP staff and Tribes. Moving forward, a regional connection needs to be reestablished.

• The understanding and provision of culturally relevant information between the SMEs and the Tribes was an issue throughout the pilot. The SMEs were hired for their experience in particular specialties and the application of these specialties in different transportation programs and localities. However, the SMEs' understanding of the Tribal program was limited and some initially lacked the information and skills necessary to translate their recognition into their face to face interaction. As they integrated class discussions of regional and Tribal issues into the standardized curriculum, their understanding of the Tribal program and its issues continued to evolve. To improve engagement, SMEs will need to be conversant in, and pay close attention to, the delivery characteristics of the Tribal program.

Discussion of Consultation Outcomes

During late 2019 and early 2020, FHWA conducted 13 consultation sessions, including at least one in each of the 12 BIA regions. These facilitated consultation sessions focused on two questions: (1) Within the framework of the enabling legislation, what objectives did the Tribes want to see the program accomplish; and (2) What is the best delivery model to achieve those objectives? Each consultation session generated a list of prioritized objectives. During the consultations, program objectives were initially identified by individual consultation participants and then collectively discussed and consolidated. This section discusses the objectives and delivery models that arose from consultation discussions.

Objectives

Below are the objectives of TTAP listed in the order most frequently heard at the consultation sessions:

• Technical Assistance—Provide technical assistance relevant to the training curriculum and Tribal needs.

• Innovation—Bring new innovations in technology and practice to the attention of the Tribes and incorporate applicable innovation in the training and technical assistance.

• Core Training Curriculum—Deliver skills-based training on core competencies for transportation program requirements. To the extent possible, provide supporting technical manuals and guidance documents for key courses.

• Workforce Development—Facilitate or enable professional training that leads to certification for transportation construction-related trades, including heavy equipment operation.

• In-person Training Locations—To the maximum extent possible, deliver in-person training at locations that are readily accessible to the maximum number of Tribes.

• Instructor knowledge of Tribes and Tribal issues—Provide trainers and technical advisors who have demonstrable Tribal experience.

• Tiered Training—Provide multi-tiered training (e.g., basic, intermediate, advanced) for selected courses.

• Establish and Leverage Relationships—Leverage relationships with transportation partners and direct Tribes to information, data, resources, and expertise that are not provided as part of TTAP.

• Regional Specificity—Provide training that is relevant to Tribal needs in terms of regional climate, geology, and local experience.

• Tribal Input into Courses and Training Calendar—Incorporate Tribal input into what training is delivered and where and when it is delivered. This includes Tribal input on what training is developed.

• Multiple Course Delivery Options—Deliver curriculum through multiple methods (e.g., face-to-face, online, peer-to-peer exchanges, electronic media).

• Program Communication—Ensure that TTAP communicates appropriately and effectively with all Tribes about program activities, understands Tribal needs, and shares what TTAP can provide.

• Relationship Building—Provide a designated TTAP point-of-contact (POC) as a first resource for outreach and to address issues of interest to Tribes within the regions.

• Instructor Competency—Provide instructors who are SMEs.

• Funding Resources—Provide information and links to available funding resources.

Other topics discussed at the consultations include developing a knowledge portal, creating job competencies, sharing information on road maintenance programs, addressing multi-jurisdictional issues, and teaching job-specific duties.

Delivery Models

Each consultation session identified several potential delivery models. During the consultation sessions, for brainstorming purposes only, no financial constraints were placed on the proposed delivery models. Instead, those involved in the brainstorming were asked to consider scalability in the models they proposed. The delivery models were not fully formulated, but the key elements that sought to address the prioritized objectives were identified.

The outcomes of the 13 consultation sessions were discussed with the Tribal Transportation Program Coordinating Committee (TTPCC) during its February 2020 meeting in Albuquerque, New Mexico. During this discussion, commonalities and themes were explored with the TTPCC. This led to a grouping of the objectives and a review of the potential delivery models' abilities to deliver the maximum number of these objectives.

Delivery Models Not Advanced

The following models were analyzed for feasibility and effectiveness in meeting legislative intent and Tribal objectives. These models were deemed less effective in meeting these criteria.

1. Physical Office/Center in Each Region—A physical office incurs costs for rent, services, equipment, and a structure of administrative positions in each office. These overhead expenses are an annual obligation out of program resources, diminishing the resources available to deliver the core training and education mission.

2. Direct Funding—This model would allocate TTAP funding directly to the Tribes, shifting the responsibility of training and education to each Tribe. It would use the established Tribal Transportation Program (TTP) distribution formula, resulting in 456 Tribes receiving less than $2,000 annually to meet their transportation training and education needs. Each Tribe would need to provide FHWA with a document that ensured the funds were being used for the intended purpose prior to receiving the allocation. The administrative burden of this model renders it ineffective. In addition, 80 percent of the Tribes would receive very limited funding to meet their training and technical assistance needs.

3. Intertribal/Train-the-Trainer—This model sought to establish the training capacity within the Tribal community itself. This model's effectiveness is challenged by the Tribes' capacity to supply trainers (e.g., time available to be away from their position/Tribe to provide training), the need to develop and maintain the trainers' instructional techniques and capacity (this would be ongoing as individuals entered and left this function), ensure subject matter expertise, and maintain training and technical assistance consistency and currency across a broad spectrum of trainers. However, exploring how to integrate the concept of a train-the-trainer element into TTAP can be explored as TTAP is deployed.

4. National Delivery Only—The national model does not include a regional presence to establish and maintain relationships with the Tribes in a region. The significance of this presence to communicate with and understand regional Tribal needs and priorities was clearly expressed during the consultations and can improve the receptivity for training and education opportunities. However, there are programmatic elements (e.g., online course delivery, core training development, internet website that includes resource information) that are more effectively managed and administered at the national level.

5. Community College-Driven Program—This model sought to leverage the 32 fully accredited Tribal Colleges and Universities across the U.S. to deliver the TTAP. Most of these academic institutions are 2-year schools, and 11 provide pathways to engineering and material sciences. Working with a number of these institutions to effectively integrate TTAP courses and training material into their programs would be time-intensive and would not meet the immediate or near-term needs of Tribal transportation. However, exploring potential partnerships at the national and regional levels with these colleges and universities that could share faculty, curricula, equipment, and/or instructional supplies could be conducted as part of the leveraging partnerships objective that is part of each of the advanced delivery models.

6. Heavy Equipment Workforce Development—An objective that was noted in many of the consultation sessions was the establishment of heavy equipment training capacity within TTAP. During the consultations, this was defined as the training necessary to become proficient in heavy equipment operation; this is not a 2-hour or half-day familiarization event with equipment that may be onsite. To become proficient in heavy equipment operation, the average accredited “in-the-seat” training program ranges from 4 to 8 weeks to develop skills for multiple pieces of equipment used in highway maintenance and construction. These programs are designed to provide the fundamental skills and knowledge needed to operate heavy equipment safely and proficiently. Given the current funding level for TTAP, providing scholarships to attend credentialed programs is not feasible without forgoing a significant portion of the proposed training and technical assistance, which is a large component of the statutory mandate. However, given the interest expressed in this training, FHWA will explore potential partnership arrangements and access opportunities with programs administered by other Federal agencies or Departments to determine options for how TTAP could expand into this area.

The Objectives and the Delivery Models Advanced

A matrix table comparing the objectives to considered models is available as an attachment within this docket notice and on the FHWA Center for Local Aid Support website.¹

¹ The Models and Objectives matrix table is available at https://www.fhwa.dot.gov/clas/ttap/default.aspx.

The following information is necessary to understanding the delivery models.

1. Regional Area—In evaluating the regional area in the delivery models presented below, careful consideration was given to the size and determination of regional areas that are feasible under currently available funding for the TTAP ($1.05 million per year) and that provides equitable training opportunities to all the Tribes within those regions. To achieve these two elements, FHWA utilized the statutory formula used to determine the distribution of TTP funding.² The use of this formula is an established methodology and incorporates multiple parameters (e.g., Tribal population, road mileage, and average Tribal shares) into the allocation of resources.

² The Section 6002 of the FAST Act continued this formula without modification. 23 U.S.C. 202(b).

2. Key Roles and Responsibilities—the details of the following responsibilities would be operationalized in a contract with FHWA.

The regional POC will receive regional technical assistance requests and forward to appropriate individuals and agencies for resolution; coordinate Tribal input through an annual needs assessment and work with the FHWA to implement; communicate and market the conduct of the face-to-face and on-line training delivery; identify and secure in-person training workshop locations and ensure that they are compatible with Tribal customs and calendars; collect Tribal issues and challenges prior to course delivery to support instructor inclusion in training delivery; establish and leverage local and regional relationships to ensure that Tribal needs are addressed; build relationships with the Tribes in the region; develop and maintain a regional mailing list; and develop and publish a newsletter.

The SMEs will respond to technical assistance requests received from regional POCs; utilize information collected by the regional POCs to understand and incorporate regional issues and challenges into the delivery of training and technical assistance; deliver face-to-face training in their expertise area; identify and share best practices and Tribal case studies with regional POCs and the FHWA for distribution to Tribes; and establish and leverage local and regional relationships to ensure Tribal needs are addressed.

The FHWA will develop and promulgate information on TTAP and disseminate in concert with the regional POC; develop and make available the core training curriculum; identify and disseminate information on innovative technologies and practices; support and enable the conduct of the online course delivery options; establish and leverage national level relationships to ensure Tribal needs are addressed (this could include potential relationships or partnerships to advance workforce development); develop and maintain a TTAP website for sharing program information, resources, best practices, etc.; develop and share the competencies relevant to job functions; and identify the training that supports and enables those job functions and make them available to the Tribes (resource development, tools, manuals, etc.).

Common Elements of the Delivery Models

All delivery models will utilize the current core curriculum material. To achieve regional specificity within the curriculum, Tribes in the regions will be solicited for the challenges or issues they face due to geography, climate, or local regulations so that those elements may be included. The SMEs will supplement the core training modules to integrate the regional elements.

An annual training needs assessment will inform the curriculum that will be budgeted, designed, and delivered and the locations/venues for delivery.

All models deliver training in a 3-day training workshop format. Unlike a conference, the workshops will be a focused educational setting designed to enhance the skills of participants. No plenary session or presentations will be delivered. When appropriate, and if the venue affords the capacity and opportunity, hands-on practice of new skills will be incorporated into the sessions.

An annual national conference will be provided to address programmatic and mutual topics of national interest.

A regional POC or SME will be selected whose responsibility will include building relationships with, and disseminating information to, the Tribes in their assigned region. To the extent possible, SMEs in the regions would each have different expertise in order to expand and diversify the training bandwidth of TTAP. Individuals with instructional knowledge/competency and an understanding of a Tribal environment will be actively solicited to fill these positions.

The FHWA will continue to leverage partnerships at the national and regional levels to broaden the resources available to Tribes. The regional POC or SME would leverage local and regional partnerships.

A national TTAP website will be developed. The website or “online resource center” will provide a variety of materials, tools and resources relevant to the Tribal program.

Mailing lists will be updated and maintained at the regional level.

The FHWA will continue to provide TTAP updates at conferences and manage programmatic discussions with Tribes.

To continue employing a blended learning strategy, existing online curriculum developed by FHWA or one of its partners will remain available for Tribal use.

All models operate within the currently available funding level of $1.05 million per year. During the national pilot and the previous TTAP delivery model, the annual funding available for TTAP was approximately $2 million per year and included funding from the TTP. Due to funding priorities within the TTP, the program no longer supports the TTAP. In addition, resource limitations preclude providing a multi-level (basic, intermediate, advanced) curriculum.

Delivery Models Advanced

The two delivery models described below combine the maximum number of objectives from the consultation sessions within the annual available funding for the TTAP—$1.05 million per year. Both models have the potential for scalability and expansion. Any expansion would be incremental to ensure program fidelity is maintained. Opportunities identified during the consultation sessions—developing multi-tiered training, leveraging Tribal community colleges' assets for both credit and non-credit training, and providing individual scholarships to obtain highway craft skills through accredited organizations or those identified in future needs assessments—may be pursued subject to additional funding and legislative intent.

Three TTAP Regions with POCs & Part-time SME Support. Under this model, the FHWA would solicit offers for a POC for each region and subject matter expertise to support instructional training delivery and technical assistance. This model offers a minimum of 19 hours of technical assistance delivered by a SME in each region per month. The POC would coordinate the technical assistance requests and contact the appropriate SME or agency for resolution. The model budgets for 11 overnight trips each year for technical assistance calls or networking in the region. Each region would receive 3 training workshops per year in a multi-track format, providing an annual availability of 567 training hours (189 face-to-face hours in each of the 3 TTAP regions). The POC would solicit Tribes in the regions prior to the workshops to identify challenges and issues to be integrated into the training topics. The SME would incorporate discussion of these issues and challenges at the training workshops. At current funding levels, this model provides for the development of two additional training topics each year. Topics selected for development would be an outcome of the annual needs assessment and innovation topics ready for deployment. An electronic newsletter would be developed by the POC and published for each region.

BIA Regional Training Workshops & SME Assigned Four BIA Regions. Under this model, each SME would take on the functions of both POC and SME for the region. Each of the three SMEs would be responsible for four BIA regions. The technical assistance hours would be delivered in the time available to the SME. Each SME would have the ability to travel overnight 3 times to each BIA region for technical assistance and networking (a total of 12 overnight trips per year). The training hours and locations would be expanded from 9 workshops nationally under the above model to 24 workshops annually. Each BIA region would receive two 3-day, multi-track workshops for an availability of 1512 hours (126 face-to-face hours in each of the 12 BIA regions). As with the model above, SMEs would supplement the core training with regional specificity. At current funding levels, this model provides for the development of one additional training topic each year. The topic selected for development would be an outcome of the annual needs assessment and innovation topics ready for deployment. An electronic newsletter would be developed by the SME and published for the four BIA regions that are the SME's responsibility.

Request for Comment

The FHWA is asking the public and specifically Tribal leaders or their direct designees for comments on the following questions:

1. Of the two proposed delivery models being advanced, which do you support and why?

2. Are there aspects of either of the two proposed delivery models being advanced that you think should be adjusted? Which aspects? How and why should they be adjusted?

3. If you do not support either of the two models, please explain your rationale and provide any alternatives you believe would meet the TTAP's legislative intent and maximize the Tribal objectives from the consultations.

Authority: 23 U.S.C. 504(b).

Nicole R. Nason,
Administrator, Federal Highway Administration.

[FR Doc. 2020-18429 Filed 8-20-20; 8:45 am]

BILLING CODE 4910-22-P